DEPARTMENT OF HEALTH AND HUMAN SERVICES

National Institutes of Health

Submission for OMB; Comment Request; National Epidemiologic Survey on Alcohol and Related Conditions—III

SUMMARY: In compliance with the requirement of Section 3507(a)(1)(D) of the Paperwork Reduction Act of 1995, the National Institute on Alcohol Abuse and Alcoholism (NIAAA), the National Institutes of Health (NIH) has submitted to the Office of Management and Budget (OMB) a request for review and approval of the information collection listed below. This proposed information collection was previously published in the Federal Register on October 15, 2010, and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: National Epidemiologic Survey on Alcohol and Related Conditions—III. Type of Information Collection Request: NEW. Need and Use of Information Collection: This study will determine the prevalence of alcohol use patterns and alcohol use disorders and their associated disabilities in a representative sample of adults in the United States population. The primary objectives of this study are to: (1) Understand the relationships between alcohol use patterns and alcohol use disorders and their related psychological and medical disabilities with a view toward designing more effective treatment, prevention and intervention programs; (2) identify subgroups at high risk for alcohol use disorders that are complicated by associated disabilities; (3) understand treatment utilization, unmet treatment need, barriers to treatment, health disparities, and economic costs of alcohol use disorders and their associated disabilities; and (4) identify environmental and genetic risk factors and their interactions that are associated with harmful consumption patterns and alcohol use disorders and their associated disabilities. Frequency of Response: On occasion. Affected Public: Individuals. Type of Respondents: Adults.

Estimated Total Annual Burden
Type of respondents | Estimated number of respondents | Estimated number of responses per respondent | Average burden hours per response | Estimated total annual burden hours requested
Adults | 44,900 | 1 | 1.0 | 44,900
Adults | 1,700 | 2 | 1.7 | 2,890
Total |  |  |  | 47,790

The annualized cost to respondents is estimated to be $936,684.00. There are no Capital Costs to report. There are no Operating or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans and instruments, contact: Dr. Bridget Grant, Chief, Laboratory of Epidemiology and Biometry, DICBR, NIAAA, NIH, 5635 Fishers Lane, Room 3077, Rockville, MD 20852, or call non-toll-free number 301-443-7370 or E-mail your request, including your address, to: Bgrant@willco.niaaa.nih.gov.

Comment Due Date: Comments regarding this information collection are best assured of having their full effect if received within 30-days of the date of this publication.

Dated: December 15, 2010.
Keith Lamirande,
Acting Executive Officer, NIAAA, National Institutes of Health.

[FR Doc. 2010-31901 Filed 12-17-10; 8:45 am]

BILLING CODE 4140-01-P